DEPARTMENT OF HOUSING AND URBAN DEVELOPMENT

[Docket No. FR-5913-N-17]

Withdrawal of 60-Day Notice of Proposed Information Collection: Energy Benchmarking

AGENCY: Office of the Assistant Secretary for Housing—Federal Housing Commissioner, HUD.

ACTION: Withdrawal: Notice.

SUMMARY: On August 9, 2016 at 81 FR 52703, HUD published a 60 Day Notice of Proposed Information Collection entitled “Energy Benchmarking.” HUD is withdrawing this notice from the Federal Register and will publish again at a later date.

FOR FURTHER INFORMATION CONTACT: Stan Houle, Office of Multifamily Housing Programs, Department of Housing and Urban Development, 451 7th Street SW., Room 10139, Washington, DC 20410, telephone 202-708-3054. (This is not a toll-free number.) Persons with hearing or speech impairments may access these numbers through TTY by calling the toll-free Federal Information Relay Service at 800-877-8339.

Dated: August 9, 2016.
Mark Kudlowitz,
Director, Multifamily Housing Programs.

[FR Doc. 2016-19405 Filed 8-12-16; 8:45 am]

BILLING CODE 4210-67-P